Executive Order 14241 of March 20, 2025

Immediate Measures To Increase American Mineral Production

By the authority vested in me as President by the Constitution and the laws of the United States of America, including section 301 of title 3, United States Code, it is hereby ordered:

Section 1. Purpose. The United States possesses vast mineral resources that can create jobs, fuel prosperity, and significantly reduce our reliance on foreign nations. Transportation, infrastructure, defense capabilities, and the next generation of technology rely upon a secure, predictable, and affordable supply of minerals. The United States was once the world's largest producer of lucrative minerals, but overbearing Federal regulation has eroded our Nation's mineral production. Our national and economic security are now acutely threatened by our reliance upon hostile foreign powers' mineral production. It is imperative for our national security that the United States take immediate action to facilitate domestic mineral production to the maximum possible extent.

Sec. 2. Definitions. For the purposes of this order:

(a) “Mineral” means a critical mineral, as defined by 30 U.S.C. 1606(a)(3), as well as uranium, copper, potash, gold, and any other element, compound or material as determined by the Chair of the National Energy Dominance Council (NEDC).

(b) “Mineral production” means the mining, processing, refining, and smelting of minerals, and the production of processed critical minerals and other derivative products.

(c) The term “processed minerals” refers to minerals that have undergone the activities that occur after mineral ore is extracted from a mine up through its conversion into a metal, metal powder, or a master alloy. These activities specifically occur beginning from the point at which ores are converted into oxide concentrates, separated into oxides, and converted into metals, metal powders, and master alloys.

(d) The term “derivative products” includes all goods that incorporate processed minerals as inputs. These goods include semi-finished goods (such as semiconductor wafers, anodes, and cathodes) as well as final products (such as permanent magnets, motors, electric vehicles, batteries, smartphones, microprocessors, radar systems, wind turbines and their components, and advanced optical devices).

Sec. 3. Priority Projects. (a) Within 10 days of the date of this order, the head of each executive department and agency (agency) involved in the permitting of mineral production in the United States shall provide to the Chair of the NEDC a list of all mineral production projects for which a plan of operations, a permit application, or other application for approval has been submitted to such agency. Within 10 days of the submission of such lists, the head of each such agency shall, in coordination with the Chair of the NEDC, identify priority projects that can be immediately approved or for which permits can be immediately issued, and take all necessary or appropriate actions within the agency's authority to expedite and issue the relevant permits or approvals.

(b) Within 15 days of the date of this order, the Chair of the NEDC, in consultation with the heads of relevant agencies, shall submit to the Executive Director of the Permitting Council mineral production projects to be considered as transparency projects on the Permitting Dashboard established under section 41003 of title 41 of the Fixing America's Surface Transportation Act, Public Law 114-94, 129 Stat. 1748. Within 15 days of receiving the submission, the Executive Director shall publish any projects selected and establish schedules for expedited review.

(c) The Chair of the NEDC, in consultation with relevant agencies, shall issue a request for information to solicit industry feedback on regulatory bottlenecks and other recommended strategies for expediting domestic mineral production.

Sec. 4. Mining Act of 1872. Within 30 days of the date of this order, the Chair of the NEDC and the Director of the Office of Legislative Affairs shall jointly prepare and submit recommendations to the President for the Congress to clarify the treatment of waste rock, tailings, and mine waste disposal under the Mining Act of 1872.

Sec. 5. Land Use for Mineral Projects. (a) Within 10 days of the date of this order, the Secretary of the Interior shall identify and provide the Assistant to the President for Economic Policy and the Assistant to the President for National Security Affairs with a list of all Federal lands known to hold mineral deposits and reserves. The Secretary of the Interior shall prioritize mineral production and mining related purposes as the primary land uses in these areas, consistent with applicable law. Land use plans under the Federal Land Policy and Management Act shall provide for mineral production and ancillary uses, and be amended or revised as necessary, to support the intent of this order.

(b) Within 30 days of the date of this order, the Secretary of Defense, the Secretary of the Interior, the Secretary of Agriculture, and the Secretary of Energy shall identify as many sites as possible on Federal land managed by their respective agencies that may be suitable for leasing or development pursuant to 10 U.S.C. 2667, 42 U.S.C. 7256, or other applicable authorities, for the construction and operation of private commercial mineral production enterprises and provide such list to the Assistant to the President for Economic Policy, the Assistant to the President for National Security Affairs, and the Chair of the NEDC. The Secretary of Defense, the Secretary of the Interior, the Secretary of Agriculture, and the Secretary of Energy shall prioritize including sites on such lists on which mineral production projects could be fully permitted and operational as soon as possible and have the greatest potential effect on robustness of the domestic mineral supply chain.

(c) The Secretary of Defense and the Secretary of Energy shall enter into extended use leases as authorized by 10 U.S.C. 2667 or by 42 U.S.C. 7256(a) respectively, or using any other authority they deem appropriate, with private entities to advance the installation of commercial mineral production enterprises on the lands identified pursuant to subsection (b) of this section. The installation of such commercial mineral production enterprises may be accomplished through development and construction or via modification of existing structures to be compatible with commercial requirements.

(d) Within 30 days of the date of this order, the Secretary of Defense and the Secretary of Energy shall coordinate with the Secretary of Agriculture, the Administrator of the Small Business Administration, and the head of any other agency that provides or can provide loans, capital assistance, technical assistance, and working capital to domestic mineral production project sponsors to ensure that all private parties who enter into lease and commercial agreements under subsection (c) of this section can utilize as many favorable terms and conditions as are available under public assistance programs for these purposes, consistent with applicable law.

Sec. 6. Accelerating Private and Public Capital Investment. (a) The Secretary of Defense shall utilize the National Security Capital Forum to facilitate the introduction of entities to pair private capital with commercially viable domestic mineral production projects to the maximum possible extent.

(b) To address the national emergency declared pursuant to Executive Order 14156 of January 20, 2025 (Declaring a National Energy Emergency), I hereby waive the requirements of 50 U.S.C. 4533(a)(1) through (a)(6). By the authority vested in me as President by the Constitution and the laws of the United States of America, including section 301 of title 3, United States Code, I hereby delegate to the Secretary of Defense the authority of the President conferred by section 303 of the Defense Production Act (DPA) (50 U.S.C. 4533). The Secretary of Defense may use the authority under section 303 of the DPA, in consultation with the Secretary of the Interior, the Secretary of Energy, the Chair of the NEDC, and the heads of other agencies as the Secretary of Defense deems appropriate, for the domestic production and facilitation of strategic resources the Secretary of Defense deems necessary or appropriate to advance domestic mineral production in the United States. Further, within 30 days of the date of this order, the Secretary of Defense shall add mineral production as a priority industrial capability development area for the Industrial Base Analysis and Sustainment Program.

(c) Agencies that are empowered to make loans, loan guarantees, grants, equity investments, or to conclude offtake agreements to advance national security in securing vital mineral supply chains, both domestically and abroad, shall, to the extent permitted by law, take steps to rescind any policies that require an applicant to complete and submit to the agency as part of an application for such funds the disclosures that are required by Regulation S-K part 1300.

(d) To address the national emergency declared pursuant to Executive Order 14156, I hereby waive the requirements of 50 U.S.C. 4531(d)(1)(a)(ii), 4332(d)(1)(B), and 4533(a)(1) through (a)(6). By the authority vested in me as President by the Constitution and the laws of the United States of America, including section 301 of title 3, United States Code, I hereby delegate to the Chief Executive Officer (CEO) of the United States International Development Finance Corporation (DFC) the authority of the President conferred by sections 301, 302, and 303 of the DPA (50 U.S.C. 4531, 4532, and 4533), and the authority to implement the DPA in 50 U.S.C. 4554, 4555, 4556, and 4560. The CEO of the DFC may use the authority under sections 301, 302 and 303 of the DPA, in consultation with the Secretary of Defense, the Secretary of the Interior, the Secretary of Energy, the Chair of the NEDC, and the heads of other agencies as the CEO deems appropriate, for the domestic production and facilitation of strategic resources the CEO deems necessary or appropriate to advance mineral production. The loan authority delegated by this order is limited to loans that create, maintain, protect, expand, or restore domestic mineral production. Loans, loan guarantees, and political risk insurance extended using the authority delegated by this subsection shall be made in accordance with the principles and guidelines outlined in the Office of Management and Budget (OMB) Circular A-11 and OMB Circular A-129, in each case subject to such exceptions as the Director of OMB grants, and the Federal Credit Reform Act of 1990, as amended (2 U.S.C. 661 et seq.). The CEO of the DFC, in coordination with the Director of OMB, shall adopt appropriate rules and regulations as may be necessary to implement this order in coordination with the Assistant to the President for Economic Policy.

(e) Within 30 days of the date of this order, the CEO of the DFC and the Secretary of Defense shall develop and propose a plan to the Assistant to the President for National Security Affairs for the DFC to use Department of Defense investment authorities (including the DPA) and the Department of Defense Office of Strategic Capital to establish a dedicated mineral and mineral production fund for domestic investments executed by the DFC. Any such fund shall be implemented pursuant to such plan only after approval by each of the Secretary of Defense, the CEO of the DFC, and the Assistant to the President for National Security Affairs. Pursuant to the reimbursement authorities in the Economy Act, the Secretary of Defense shall transfer to the DFC any appropriated funds from the Defense Production Act Fund or from the Office of Strategic Capital necessary to reimburse the DFC in connection with its services performed on behalf of and in coordination with the Department of Defense to implement subsection (d) of this section and this subsection. In connection with such reimbursements, the Secretary of Defense shall direct the Under Secretary of Defense (Comptroller) to defer to the credit and underwriting policies of the DFC with respect to the use of such funds by the DFC.

(f) Within 30 days of the date of this order, the President of the Export-Import Bank shall release recommended program guidance for the use of mineral and mineral production financing tools authorized under the Supply Chain Resiliency Initiative to secure United States offtake of global raw mineral feedstock for domestic minerals processing, as well as under the Make More in America Initiative to support domestic mineral production.

(g) Within 30 days of the date of this order, the Assistant Secretary of Defense for Industrial Base Policy shall convene buyers of minerals and work towards an announced request for bids to supply the minerals.

(h) Within 45 days of the date of this order, the Administrator of the Small Business Administration shall prepare and submit through the Assistant to the President for Economic Policy recommendations for legislation to enhance private-public capital activities to support financings to domestic small businesses engaged in mineral production. The Administrator of the Small Business Administration shall further take steps to promulgate such regulations, rules, and guidance as the Administrator determines are necessary or appropriate for such purposes.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

Washington, March 20, 2025.

[FR Doc. 2025-05212

Filed 3-24-25; 8:45 am]

Billing code 3395-F4-P